FEDERAL EMERGENCY MANAGEMENT AGENCY

[FEMA-1511-DR]

Federated States of Micronesia; Amendment No. 5 to Notice of a Major Disaster Declaration

AGENCY: Federal Emergency Management Agency (FEMA).

ACTION: Notice.

SUMMARY: This notice amends the notice of a major disaster for the Federated States of Micronesia (FEMA-1511-DR), dated April 10, 2004, and related determinations.

DATES: Effective July 21, 2004.

FOR FURTHER INFORMATION CONTACT: Magda Ruiz, Recovery Division, Federal Emergency Management Agency, Washington, DC 20472,(202)646-2705.

SUPPLEMENTARY INFORMATION: Notice is hereby given that, in a letter dated July 21, 2004, the President amended the cost-sharing arrangements concerning Federal funds provided under the authority of the Robert T. Stafford Disaster Relief and Emergency Assistance Act, 42 U.S.C. 5121-5206 (the Stafford Act), as follows:

I have determined that the damage in certain areas of the Federated States of Micronesia, due to damage resulting from Typhoon Sudal on April 8-14, 2004, is of sufficient severity and magnitude that special conditions are warranted regarding the cost sharing arrangements concerning Federal funds provided under the Robert T. Stafford Disaster Relief and Emergency Assistance Act, 42 U.S.C. 5121-5206 (the Stafford Act).

Therefore, I amend my declaration of April 10, 2004, to authorize Federal funds for Public Assistance at 90 percent of total eligible costs. The law specifically prohibits a similar adjustment for funds provided to States for the Individuals and Households Program and the Hazard Mitigation Grant Program. These funds will continue to be reimbursed at 75 percent of the total eligible costs.

This adjustment to State and local cost sharing applies only to Public Assistance costs eligible for such adjustment under the law.

Please notify the President of the Federated States of Micronesia and the Federal Coordinating Officer of this amendment to my major disaster declaration.

The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individual and Household Housing; 97.049, Individual and Household Disaster Housing Operations; 97.050 Individual and Household Program-Other Needs, 97.036, Public Assistance Grants; 97.039, Hazard Mitigation Grant Program.)

Michael D. Brown,
Under Secretary, Emergency Preparedness and Response, Department of Homeland Security.

[FR Doc. 04-17634 Filed 8-2-04; 8:45 am]

BILLING CODE 9110-10-P